DEPARTMENT OF COMMERCE

International Trade Administration

[A-570-905]

Certain Polyester Staple Fiber From the People's Republic of China: Full Extension of Preliminary Results of Antidumping Duty Administrative Review

AGENCY: Import Administration, International Trade Administration, Department of Commerce.

SUMMARY: The Department of Commerce (“Department”) is extending the time limit for the preliminary results of the administrative review of certain polyester staple fiber from the People's Republic of China (“PRC”). This review covers the period June 1, 2009, through May 31, 2010.

DATES: Effective Date: May 17, 2011.

FOR FURTHER INFORMATION CONTACT: Jerry Huang or Steven Hampton, AD/CVD Operations, Office 9, Import Administration, International Trade Administration, U.S. Department of Commerce, 14th Street and Constitution Avenue, NW., Washington, DC 20230; telephone: (202) 482-4047 or (202) 482-0116, respectively.

Background

On July 28, 2010, the Department published in the Federal Register a notice of initiation of the administrative review of the antidumping duty order on certain polyester staple fiber from the PRC. See Initiation of Antidumping and Countervailing Duty Administrative Reviews and Requests for Revocations in Part, 75 FR 44224 (July 28, 2010). The preliminary results of this review are currently due no later than May 31, 2011.

Statutory Time Limits

Section 751(a)(3)(A) of the Tariff Act of 1930, as amended (“the Act”), requires the Department to issue the preliminary results within 245 days after the last day of the anniversary month of an order for which a review is requested and the final results within 120 days after the date on which the preliminary results are published. However, if it is not practicable to complete the review within these time periods, section 751(a)(3)(A) of the Act allows the Department to extend the time limit for the preliminary determination to a maximum of 365 days after the last day of the anniversary month. Although we previously extended the 245-day period by 90 days for completion of the review, we have determined that completion of the preliminary results of this review within the extended 335-day period is not practicable because the Department needs additional time to complete verification reports.

Because it is not practicable to complete this review within the extended 335-day time period, we are fully extending the time limit for completion of the preliminary results of this administrative review by 30 days. The preliminary results will now be due no later than June 30, 2011. The final results continue to be due 120 days after the publication of the preliminary results.

We are issuing and publishing this notice in accordance with sections 751(a)(3)(A) and 777(i) of the Act.

Dated: May 10, 2011.
Christian Marsh,
Deputy Assistant Secretary for Antidumping and Countervailing Duty Operations.

[FR Doc. 2011-12065 Filed 5-16-11; 8:45 am]

BILLING CODE 3510-DS-P